ENVIRONMENTAL PROTECTION AGENCY

[FRL-8481-8]

The Fifteenth Meeting of the Mississippi River/Gulf of Mexico Watershed Nutrient Task Force

AGENCY: Environmental Protection Agency (EPA).

ACTION: Notice; meeting announcement.

SUMMARY: This notice announces the Fifteenth Public Meeting of the Mississippi River/Gulf of Mexico Watershed Nutrient Task Force. The purpose of this Task Force, consisting of federal and state members, is to lead efforts to coordinate and support nutrient management and hypoxia-related activities in the Mississippi River and Gulf of Mexico watersheds. The matter for discussion at the meeting is the Reassessment of the Action Plan for Reducing, Mitigating, and Controlling Hypoxia in the Northern Gulf of Mexico. The Plan was developed in fulfillment of a requirement of section 604(b) of the Harmful Algal Blooms and Hypoxia Research Control Act (Pub. L. 105-383—Coast Guard Authorization Act of 1998) and was submitted as a Report to Congress on January 18, 2001. The public will be afforded an opportunity to provide input to the Task Force during open discussion periods.

DATES: The public meeting will be held on October 29, 2007, from 1-5 p.m. EST.

ADDRESSES: The meeting is located at Westin Cincinnati, 21 East Fifth Street, Cincinnati, OH 45202. Telephone: (513) 621-7700. Additional information and meeting materials can be found at http://www.epa.gov/msbasin.

FOR FURTHER INFORMATION CONTACT: For registration and other information contact Kristen Goodrich, U.S. EPA, Oceans and Coastal Protection Division (OCPD), Mail Code 4504T, 1200 Pennsylvania Avenue, NW., Washington, DC 20460; Phone (202) 566-1284; E-mail: goodrich.kristen@epa.gov.

Dated: October 4, 2007.
Craig Hooks,
Director, Office of Wetlands, Oceans and Watersheds.

[FR Doc. E7-20153 Filed 10-11-07; 8:45 am]

BILLING CODE 6560-50-P